DEPARTMENT OF JUSTICE

Antitrust Division

Notice Pursuant to the National Cooperative Research and Production Act of 1993—Rapid Response Partnership Vehicle

Notice is hereby given that, on April 12, 2024, pursuant to section 6(a) of the National Cooperative Research and Production Act of 1993, 15 U.S.C. 4301 et seq. (“the Act”), Rapid Response Partnership Vehicle (“RRPV”) has filed written notifications simultaneously with the Attorney General and the Federal Trade Commission disclosing changes in its membership. The notifications were filed for the purpose of extending the Act's provisions limiting the recovery of antitrust plaintiffs to actual damages under specified circumstances.

Specifically, A-line, Inc., Signal Hill, CA; ANP Technologies, Inc., Newark, DE; ARNAV Biotech Corp., Atlanta, GA; Action Medical Technologies LLC, Conshohocken, PA; AmerStem, Inc., Camarillo, CA; American Type Culture Collection, Manassas, VA; Aposense, Ltd., Petach Tikva, ISRAEL; Appili Therapeutics USA, Inc., Frederick, MD; Aptitude Medical Systems, Goleta, CA; Arranta Bio MA LLC, Watertown, MA; Asha Therapeutics LLC, Tampa, FL; BDO Public Sector LLC, Mclean, VA; BRCR Medical Center, Inc., Plantation, FL; Battelle Memorial Institute, Columbus, OH; BioInfoExperts LLC, Thibodaux, LA; Boost Biopharma, Inc., Amherst, MA; Bracane Company, Plano, TX; Capra Biosciences, Inc., Manassas, VA; Capricor Therapeutics, Inc., San Diego, CA; CellCarta Biosciences, Inc., Montreal, CANADA; Cerba Research USA, Inc., Lake Success, NY; Clarametyx Biosciences, Inc., Columbus, OH; Clarus Biologics, Inc., Chapel Hill, NC; Cue Health, Inc., San Diego, CA; D'Angelo Technologies LLC, Beavercreek, OH; DEKA Research & Development Corp., Manchester, NH; Datavant, Phoenix, AZ; Deutsches Zentrum für Infektionsforschung e.V., Braunschweig, GERMANY; Diagnostic Consulting Network LLC dba DCN Diagnostics, Carlsbad, CA; Diasorin Molecular, Cypress, CA; EMD Millipore dba MilliporeSigma, Burlington, MA; Ethris GmbH, Planegg, GERMANY; FONDAZIONE BIOTECNOPOLO DI SIENA, SIENA, ITALY; Flagship Labs, Cambridge, MA; Fred Hutchinson Cancer Center, Seattle, WA; Genentech, South San Francisco, CA; GiwoTech, Inc., Wilmington, DE; Global Action Alliance, Inc., Ashburn, VA; HDT Bio Corp., Seattle, WA; Hope Biosciences, Sugar Land, TX; IQVIA Government Solutions, Inc., Falls Church, VA; Icahn School of Medicine at Mount Sinai, New York, NY; InBios International, Seattle, WA; Injection Safety Industries LLC, Bowling Green, KY; Inovio Pharmaceuticals, Plymouth Meeting, PA; Integrated Biotherapeutics LLC dba IBT Bioservices, Rockville, MD; LTS Lohmann Therapie-Systeme AG, Andernach, GERMANY; Labcorp, Burlington, NC; Labcorp-Monogram Biosciences, South San Francisco, CA; Lyndra Therapeutics, Inc., Watertown, MA; Major, Inc., Los Angeles, CA; MalarVx, Inc., Seattle, WA; Mirimus, Inc., Brooklyn, NY; Nature's Toolbox, Inc., Rio Rancho, NM; New Horizon Biotech, Inc., Nazareth, PA; OncoC4, Inc., Rockville, MD; PIF Partners LLC, Englewood, NJ; PharmaJet, Inc., Golden, CO; Precision for Medicine, Inc., Frederick, MD; Revvity Health Sciences, Hopkinton, MA; Rocketvax, Ltd., Basel, SWITZERLAND; Selva Therapeutics, Inc., San Mateo, CA; Sentio BioSciences LLC, Maryland Heights, MO; Solaris Vaccines, Inc., Fort Collins, CO; Spring Discovery, Inc., San Carlos, CA; Technical Resources International, Inc., Bethesda, MD; The Emmes Company LLC, Rockville, MD; The Pandemic Institute (Legally hosted by the University of Liverpool), Liverpool, UNITED KINGDOM; Tonix Pharmaceutical Holdings, Chatham, NJ; Trawsfynydd Therapeutics, Inc., Rockville, MD; US Specialty Formulations LLC, Allentown, PA; Univercells S.A., Brussels, BELGIUM; VaxForm LLC, Bethlehem, PA; VisMederi Srl, Siena, ITALY; Vyriad, Inc., Rochester, MN; Walgreen Co., Deerfield, IL; Yourbio Health, Medford, MA; and iosBio, Ltd., Haywards Heath, UNITED KINGDOM, have been added as parties to this venture.

No other changes have been made in either the membership or planned activity of the group research project. Membership in this group research project remains open, and RRPV intends to file additional written notifications disclosing all changes in membership.

On January 5, 2024, RRPV filed its original notification pursuant to section 6(a) of the Act. The Department of Justice published a notice in the Federal Register pursuant to section 6(b) of the Act on April 16, 2024 (89 FR 26928).

Suzanne Morris,
Deputy Director Civil Enforcement Operations, Antitrust Division.

[FR Doc. 2024-13625 Filed 6-20-24; 8:45 am]

BILLING CODE P